DEPARTMENT OF HEALTH AND HUMAN SERVICES

National Institutes of Health

National Institute of Mental Health; Amended Notice of Meeting

Notice is hereby given of a change in the meeting of the Services Subcommittee of the Interagency Autism Coordinating Committee (IACC), September 13, 2010, 1 p.m. to 4 p.m., National Institute of Mental Health, Neuroscience Center, 6001 Executive Boulevard, Conference Room A1/A2, Rockville, MD 20852, which was published in the Federal Register on August 19, 2010, 75 FR 51276.

The meeting will not be Webcast as originally advertised. The meeting is open to the public and will still be accessible through a conference call phone number. The meeting will be held in the same place and same time.

Dated: August 25, 2010.
Jennifer S. Spaeth,
Director, Office of Federal Advisory Committee Policy.

[FR Doc. 2010-21817 Filed 8-31-10; 8:45 am]

BILLING CODE 4140-01-P